DEPARTMENT OF AGRICULTURE

Rural Utilities Service

7 CFR Part 1735

[Docket No. RUS-20-TELECOM-0044]

RIN 0572-AA48

Implementation of Telecommunications Provisions of the Agricultural Improvement Act of 2018; Correction

AGENCY: Rural Utilities Service, Department of Agriculture (USDA).

ACTION: Correcting amendment.

SUMMARY: On September 10, 2021, Rural Development's Rural Utilities Service (hereinafter referred to as “the Agency”) published a document that completed modifications to existing program regulations to implement statutory provisions of the Agriculture Improvement Act of 2018 (2018 Farm Bill). Following the final implementation of the final rule, the Agency found that an amendment was necessary to clarify the meaning of a sentence. This document clarifies the final rule.

DATES: Effective June 2, 2023.

FOR FURTHER INFORMATION CONTACT: For information specific to this document contact Laurel Leverrier, Assistant Administrator Telecommunications Program, Rural Utilities Service, U.S. Department of Agriculture (USDA), email: laurel.leverrier@usda.gov, telephone: (202) 720-9556.

SUPPLEMENTARY INFORMATION: The Rural Utilities Service is issuing a correcting amendment to provide clarification to the final rule that published September 10, 2021, at 86 FR 50604. In that rule, the wording of § 1735.23(a) was not clear. This clarifying amendment provides for clear information for readers.

List of Subjects in 7 CFR Part 1735

Loan programs—communications, Reporting and recordkeeping requirements, Rural areas, Telephone.

For the reasons stated in the preamble, the Rural Utilities Service corrects 7 CFR part 1735 by making the following correcting amendment:

PART 1735—GENERAL POLICIES, TYPES OF LOANS, LOAN REQUIREMENTS—TELECOMMUNICATIONS PROGRAM

1. The authority citation for part 1735 continues to read as follows:

Authority: 7 U.S.C. 901 et seq., 1921 et seq., and 6941 et seq.

2. Amend § 1735.23 by revising the introductory text of paragraph (a) to read as follows:

§ 1735.23 Public notice.

(a) For applications which request funding in which the applicant will provide retail broadband service, the Agency's mapping tool will include the following information from each application, and be displayed for the public:

* * * * *

Andrew Berke,
Administrator, Rural Utilities Service, U.S. Department of Agriculture.

[FR Doc. 2023-11724 Filed 6-1-23; 8:45 am]

BILLING CODE 3410-15-P